NATIONAL SCIENCE FOUNDATION

Special Emphasis Panel in Mathematical Sciences; Notice of Meeting

In accordance with the Federal Advisory Committee Act (Pub. L. 92-463, as amended), the National Science Foundation announces the following meeting.

Name: Special Emphasis Panel in Mathematical Sciences (1204).

Date/Time: March 1-3, 2001, 8 am—4:30 pm.

Place: National Science Foundation, 4201 Wilson Blvd., Rooms 1020 and 1060, Arlington, VA.

Type of Meeting: Closed.

Contact Person: Harry Warchall, Program Director, National Science Foundation, 4201 Wilson Boulevard, Arlington, VA 22230. (703) 292-4861.

Purpose of Meeting: To provide advice and recommendations concerning proposals submitted to NSF for finanacial support.

Agenda: To review and evaluate proposals concerning the Materials & Mechanics Panel as part of the selection process for awards.

Reason for Closing: The proposals being reviewed include information of a proprietary or confidential nature, including technical information; financial data, such as salaries and personal information concerning individuals associated with the proposals. These matters are exempt under 5 U.S.C. 552b(c), (4) and (6) of the Government in the Sunshine Act.

Dated: September 19, 2000.
Karen J. York,
Committee Management Officer.

[FR Doc. 00-24410 Filed 9-21-00; 8:45 am]

BILLING CODE 7555-01-M